DEPARTMENT OF EDUCATION

Notice of Submission for OMB Review

AGENCY: Department of Education.

ACTION: Comment Request.

SUMMARY: The Director, Information Collection Clearance Division, Regulatory Information Management Services, Office of Management invites comments on the submission for OMB review as required by the Paperwork Reduction Act of 1995 (Pub. L. 104-13).

DATES: Interested persons are invited to submit comments on or before December 30, 2010.

ADDRESSES: Written comments should be addressed to the Office of Information and Regulatory Affairs, Attention: Education Desk Officer, Office of Management and Budget, 725 17th Street, NW., Room 10222, New Executive Office Building, Washington, DC 20503, be faxed to (202) 395-5806 or e-mailed to oira_submission@omb.eop.gov with a cc: to ICDocketMgr@ed.gov. Please note that written comments received in response to this notice will be considered public records.

SUPPLEMENTARY INFORMATION: Section 3506 of the Paperwork Reduction Act of 1995 (44 U.S.C. chapter 35) requires that the Office of Management and Budget (OMB) provide interested Federal agencies and the public an early opportunity to comment on information collection requests. The OMB is particularly interested in comments which: (1) Evaluate whether the proposed collection of information is necessary for the proper performance of the functions of the agency, including whether the information will have practical utility; (2) Evaluate the accuracy of the agency's estimate of the burden of the proposed collection of information, including the validity of the methodology and assumptions used; (3) Enhance the quality, utility, and clarity of the information to be collected; and (4) Minimize the burden of the collection of information on those who are to respond, including through the use of appropriate automated, electronic, mechanical, or other technological collection techniques or other forms of information technology.

Dated: November 24, 2010.
Darrin A. King,
Director, Information Collection Clearance Division Regulatory Information Management Services Office of Management.

Institute of Education Sciences

Type of Review: New.

Title of Collection: Study of Schools Targeted for Improvement Using Title I Section 1003(g) Funds Provided Under the American Recovery and Reinvestment Act (Study of School Turnaround).

OMB Control Number: Pending.

Agency Form Number(s): N/A.

Frequency of Responses: Annually.

Affected Public: Not-for-profit institutions; State, Local, or Tribal Government, State Educational Agencies, Local Educational Agencies.

Total Estimated Number of Annual Responses: 8,463.

Total Estimated Annual Burden Hours: 3,803.

Abstract: The purpose of the Study of School Turnaround is to document over time the intervention models, approaches, and strategies adopted and implemented by a subset of 60 schools receiving federal School Improvement Grants (SIG), Title I Section 1003(g), provided under the American Recovery and Reinvestment Act. To this end, the evaluation will employ multiple data collection strategies, including telephone interviews with school principals, district administrators and state officials; site visits to case study schools; teacher surveys; and collection of fiscal data. Specifically, the study will conduct telephone interviews with building principals and will administer teacher surveys in 60 schools, over three years. This set of 60 SIG-awarded schools will include three nested subsamples: One set of 25 schools in which the study team will conduct in-depth case studies over three years, and two sets of 10 “special topics” schools in which the study team will collect interview, focus group, and survey data on topics of policy interest over a period of two years. The study will produce annual reports, accompanied by more focused research briefs on special topics related to the change process in the nation's lowest-performing schools.

Requests for copies of the information collection submission for OMB review may be accessed from the RegInfo.gov Web site at http://www.reginfo.gov/public/do/PRAMain or from the Department's Web site at http://edicsweb.ed.gov, by selecting the “Browse Pending Collections” link and by clicking on link number 4446. When you access the information collection, click on “Download Attachments ” to view. Written requests for information should be addressed to U.S. Department of Education, 400 Maryland Avenue, SW., LBJ, Washington, DC 20202-4537. Requests may also be electronically mailed to the Internet address ICDocketMgr@ed.gov or faxed to 202-401-0920. Please specify the complete title of the information collection and OMB Control Number when making your request.

Individuals who use a telecommunications device for the deaf (TDD) may call the Federal Information Relay Service (FIRS) at 1-800-877-8339.

[FR Doc. 2010-30128 Filed 11-29-10; 8:45 am]

BILLING CODE 4000-01-P